ENVIRONMENTAL PROTECTION AGENCY

[EPA-HQ-OPP-2016-0577; FRL-9958-13]

Product Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1 and Table 2 of Unit II, pursuant to the Federal Insecticide, Fungicide, and Rodenticide Act (FIFRA). This cancellation order follows a November 18, 2016 Federal Register Notice of Receipt of Requests from the registrants listed in Table 3 of Unit II, to voluntarily cancel and amend to terminate uses of these product registrations.

DATES: The cancellations and amendments are effective March 23, 2017.

FOR FURTHER INFORMATION CONTACT: Christopher Green, Information Technology and Resources Management Division (7502P), Office of Pesticide Programs, Environmental Protection Agency, 1200 Pennsylvania Ave. NW., Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2016-0577, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

In the November 18, 2016 notice, EPA indicated that it would issue an order implementing the cancellations and amendments to terminate uses, unless the Agency received substantive comments within the 30-day comment period that would merit its further review of these requests, or unless the registrants withdrew their requests. The Agency received one comment on this notice from a registrant to withdraw one cancellation request for registration 100-1052, because it was inadvertently sent to the agency and it is not listed in this notice and will not be cancelled. Also two comments were received for the following registration numbers that were listed for product cancellation in the November 18, 2016 notice in error and are not listed in this notice, the following product registrations are not being cancelled: 2792-45, 61842-20, 61842-21, 61842-22, 61842-23, 61842-24 and 61842-32. Also, a comment was received for registration number 66222-32 that was listed in error with the incorrect product name and active ingredient, and it is not listed in this notice and will not be cancelled. Accordingly, EPA hereby issues in this notice a cancellation order granting the requested cancellations and amendments to terminate uses. Any distribution, sale, or use of the products subject to this cancellation order is permitted only in accordance with the terms of this order, including any existing stocks provisions.

This notice announces the cancellations and amendments to terminate uses, as requested by registrants, of products registered under FIFRA section 3 (7 U.S.C. 136a). These registrations are listed in sequence by registration number in Tables 1 and 2 of this unit.

Table 1—Product Cancellations
Registration No. | Company No. | Product name | Active ingredient
100-951 | 100 | Hurricane | Metalaxyl-M & Fludioxonil.
100-1051 | 100 | Talon-G Rodenticide Bait Pack Pellets with Bitrex | Brodifacoum.
100-1057 | 100 | Talon-G Rodenticide Mini-Pellets with Bitrex | Brodifacoum.
100-1064 | 100 | Diquat Weed Killer `D' | Diquat dibromide.
100-1095 | 100 | Lambda-Cyhalothrin TC Insecticide | Lambda-Cyhalothrin.
100-1114 | 100 | Rapid Kill #1 | Diquat dibromide.
100-1115 | 100 | Rapid Kill #1 Concentrate | Diquat dibromide.
100-1143 | 100 | Touchdown Ready-To-Use Herbicide | Glyphosate.
100-1144 | 100 | Touchdown Home and Garden Concentrate | Glyphosate.
100-1170 | 100 | Optigard ZT Insecticide | Thiamethoxam.
100-1180 | 100 | Touchdown Diquat Home and Garden Ready to Use | Diquat dibromide & Glyphosate.
100-1209 | 100 | Abamectin Granular Fire Ant Killer | Abamectin.
100-1302 | 100 | Cypermethrin ME 2.0% Concentrate | Cypermethrin.
100-1303 | 100 | Cypermethrin ME 0.2% RTU | Cypermethrin.
100-1329 | 100 | Glyphosate Diquat Prodiamine EW RTU | Glyphosate, Diquat dibromide & Prodiamine.
100-1331 | 100 | Prodiamine/Diquat/Glyphosate EW Concentrate | Diquat dibromide, Prodiamine & Glyphosate.
100-1332 | 100 | Prodiamine/Diquat/Glyphosate EW Manufacturing Use Concentrate | Diquat dibromide, Glyphosate & Prodiamine.
100-1355 | 100 | Departure Herbicide | Glyphosate.
100-1393 | 100 | Hurricane WDG | Fludioxonil & Metalaxyl-M.
100-1403 | 100 | Glyphosate 500 | Glyphosate.
100-1429 | 100 | Foxfire Herbicide | Pinoxaden & Fenoxaprop-p-ethyl.
228-679 | 228 | ETI 107 02 G | Paclobutrazol.
228-680 | 228 | ETI 107 01 G | Paclobutrazol.
279-3195 | 279 | Authority First Herbicide | Sulfentrazone.
279-3231 | 279 | Gauntlet | Sulfentrazone & Cloransulam-methyl.
279-3247 | 279 | Gauntlet 70 WP Herbicide | Sulfentrazone & Cloransulam-methyl.
352-713 | 352 | DuPont Sulfentrazone XP Herbicide | Sulfentrazone.
499-497 | 499 | Whitmire Micro-Gen TC 232 | D-Limonene.
499-508 | 499 | TC 246 | Imazalil.
499-519 | 499 | TC 232 W&H | D-Limonene.
2724-819 | 2724 | Pyrocide Pressurized Ant & Roach Spray 70451 | Propoxur, Pyrethrins, Piperonyl butoxide & MGK 264.
5905-583 | 5905 | HM-0739 | 2,4-D, diethanolamine salt, Benzoic acid, 3,6-dichloro-2-methoxy-, compd with 2,2′-iminobis(ethanol) (1:1) & 3-Quinolinecarboxylic acid, 2-(4,5-dihydro-4-methyl-4-(1-methylethyl)-5-oxo-1H-imidazol-2-yl)-, monoammonium salt.
7969-341 | 7969 | Cando Limonene Wasp & Hornet Jet Spray | D-Limonene.
7969-344 | 7969 | Cando Limonene Indoor/Outdoor Multi-Insect Spray | D-Limonene.
9688-307 | 9688 | TAT Total Release Water Based Fogger | MGK 264, Tetramethrin & Esfenvalerate.
35935-101 | 35935 | Azoxystrobin Technical | Azoxystrobin.
59639-80 | 59639 | Valent Bolero 10 G (Herbicide) | Thiobencarb.
61282-01 | 61282 | Technical Diphacinone | Diphacinone.
61282-03 | 61282 | Zinc Phosphide 93 | Zinc phosphide (Zn3P2).
61282-20 | 61282 | Zinc Phosphide Corn Bait | Zinc phosphide (Zn3P2).
66330-260 | 66330 | Flomet 4L | Fluometuron.
67760-43 | 67760 | Cheminova Methyl Parathion 4 EC | Methyl parathion.
70506-180 | 70506 | Accelerate a Harvest Aid for Cotton | Endothall, mono(N,N,-dimethyl alkyl amine) salt.
70506-190 | 70506 | Desicate II | Endothall, mono(N,N,-dimethyl alkyl amine) salt.
70506-296 | 70506 | Thinrite Blossom Thinner | Endothal-dipotassium.
70506-297 | 70506 | UPI Captan Technical | Captan.
82437-1 | 82437 | K & W Agrochemicals 5-15-5 with Gro-Root Liquid (GRL) Root & Transplant Stimulator with 2 Hormones | 1-Naphthaleneacetic acid & Indole-3-butyric acid.
82437-3 | 82437 | Kingro RTU (Ready-to-use) | Cytokinin (as kinetin).
82437-4 | 82437 | Rootaid Gel | Indole-3-butyric acid.
82437-6 | 82437 | Prostim L | Indole-3-butyric acid & Cytokinin (as kinetin).
82437-8 | 82437 | Prostim II | Cytokinin (as kinetin) & Indole-3-butyric acid.
88342-1 | 88342 | Odor Rescue | Sodium chlorite.
89461-2 | 89461 | Shiner Concentrated Shock Granules | Trichloro-s-triazinetrione.
89461-3 | 89461 | Shiner Dichlor Shock Granules | Sodium dichloroisocyanurate dihydrate.
CO-010006 | 10163 | Hexygon WDG | Hexythiazox.
SC-140001 | 59639 | V-10233 Herbicide | Flumioxazin & Pyroxasulfone.
WA-060021 | 10163 | Onager 1E | Hexythiazox.

Table 2—Product Registration Amendments to Terminate Uses
Registration No. | Company No. | Product name | Active ingredient | Uses to be terminated
100-1093 | 100 | Heritage Fungicide | Azoxystrobin | Artichoke, Globe, Bananas, Plantains (post-harvest uses only), Barley, Canola, Carrots, Corn, Cotton, Cranberry, Grasses (grown for seed), Legume vegetables, dry and succulent, Oilseed crops, Peanuts, Potatoes, Rice, Soybean, Tobacco, Vegetable, leaves of root and tubers, Vegetable, root subgroup, Vegetable, tuberous and corm subgroup, Watercress, Wheat, Triticale & Indoor residual mold spray (use on carpet; wood and drywall; hard, non-porous surfaces).
100-1218 | 100 | Demon Max Insecticide | Cypermethrin | Remove the directions for use for material protection. Remove the section entitled, Treatment of Preconstruction Lumber and Logs.
264-736 | 264 | Bayleton Technical Fungicide | Triadimefon | Pineapple.
264-740 | 264 | Bayleton 50% Concentrate | Triadimefon | Pineapple.
2792-45 | 2792 | No Scald DPA EC-283 | Diphenylamine (Not selected for InertFinder) | Pear use.
6218-45 | 6218 | Pyrethrins Fogging Concentrate II | MGK 264, Piperonyl butoxide & Pyrethrins | Outdoor Use, all outdoor uses except building perimeters (spot treatments).
43410-33 | 43410 | Chem-Tek 100 | Thiabendazole | In or on paints, nylon carpeting & canvas textiles.
70506-179 | 70506 | Ziram Manufacturing Use Product | Ziram | Blackberries.
85678-8 | 85678 | Captan Technical | Captan | Turf Use.
85678-13 | 85678 | Captan 4L | Captan | Turf Use.
85678-14 | 85678 | Captan 80 WDG | Captan | Turf Use.
85678-28 | 85678 | Captan Technical II | Captan | Turf Use.
87290-61 | 87290 | Willowood Mesotrione 4SC | Mesotrione | Directions for use on soybeans.
87290-62 | 87290 | Willowood Mesotrione 480SC | Mesotrione | Directions for use on soybeans.

Table 3 of this unit includes the names and addresses of record for all registrants of the products in Tables 1 and 2 of this unit, in sequence by EPA company number. This number corresponds to the first part of the EPA registration numbers of the products listed above.

Table 3—Registrants of Cancelled and Amended Products
EPA company No. | Company name and address
100 | Syngenta Crop Protection, LLC, 410 Swing Road, P.O. Box 18300, Greensboro, NC 27419-8300.
228 | NuFarm Americas, Inc., 4020 Aerial Center Pkwy., Ste. 101, Morrisville, NC 27560.
264 | Bayer CropScience, LP, 2 T.W. Alexander Drive, P.O. Box 12014, Research Triangle Park, NC 27709.
279 | FMC Corporation, 2929 Walnut Street, Philadelphia, PA 19104.
352 | E. I. Du Pont De Nemours and Company (S300/419), Attn: Manager, US Registration, Dupont Crop Protection, Chestnut Run Plaza, 974 Centre Road, P.O. Box 2915, Wilmington, DE 19805.
499 | BASF Corporation, 26 Davis Drive, P.O. Box 13528, Research Triangle Park, NC 27709-3528.
2724 | Wellmark International, 1501 E. Woodfield Road, Suite 200 West, Schaumburg, IL 60173.
2792 | Decco US Post-Harvest, Inc., 1713 South California Avenue, Monrovia, CA 91016-0120.
5905 | Helena Chemical Company, Agent Name: Helena Products Group, 7664 Smythe Farm Road, Memphis, TN 38120.
6218 | Summit Chemical Co., 8322 Sharon Drive, Frederick, MD 21704.
7969 | BASF Corporation, 26 Davis Drive, P.O. Box 13528, Research Triangle Park, NC 27709-3528.
9688 | Chemsico, A Division of United Industries Corp., P.O. Box 142642, St. Louis, MO 63114-0642.
10163 | Gowan Company, P.O. Box 5569, Yuma, AZ 85366.
35935 | NuFarm Limited, Agent Name: NuFarm Americas Inc., 4020 Aerial Center Pkwy., Ste. 103, Morrisville, NC 27560.
43410 | Agri-Chem Consulting, Inc., 27536 CR 561, Tavares, FL 32778.
59639 | Valent U.S.A. Corporation, 1600 Riviera Avenue, Suite 200, Walnut Creek, CA 94596.
61282 | Hacco, Inc., 110 Hopkins Drive, Randolph, WI 53956-1316.
66330 | Arysta LifeScience North America, LLC, 15401 Weston Parkway, Suite 150, Cary, NC 27513.
67760 | Cheminova, Inc., 1600 Wilson Blvd., Suite 700, Arlington, VA 22209.
70506 | United Phosphorus, Inc., Agent Name: Pyxis Regulatory Consulting, Inc., 4110 136th Street Ct. NW., Gig Harbor, WA 98332.
82437 | K & W Agrichemicals, Inc., Agent Name: Wagner Regulatory Associates, Inc., P.O. Box 640, Hockessin, DE 19707-0640.
85678 | Redeagle International LLC, Agent Name: Wagner Regulatory Associates, Inc., P.O. Box 640, Hockessin, DE 19707.
87290 | Willowood, LLC, Agent Name: Wagner Regulatory Associates, Inc., P.O. Box 640, Hockessin, DE 19707-0640.
88342 | CLO2 Systems, 3427 Pearl Road, Medina, OH 44256.
89461 | Global Chem Tech, LLC, 34 Lake Havasu Avenue N.—14-204, Lake Havasu City, AZ 86403.

III. Summary of Public Comments Received and Agency Response to Comments

During the public comment period provided, EPA received four comments in response to the November 18, 2016 Federal Register notice announcing the Agency's receipt of the requests for voluntary cancellations and amendments to terminate uses of products listed in Tables 1 and 2 of Unit II. One request was from Syngenta Crop Protection, LLC requesting that EPA Reg. No. 100-1052 be retained because the voluntary cancellation request was sent to the agency in error. A second comment was received from Decco US Post-Harvest, Inc. requesting that EPA Reg. No. 2792-45 be retained because the entry to cancel the product registration was listed in error, the registrant only voluntarily requested to amend the registration to terminate uses on pears which is accurately listed in Table 2 of Unit II. A third comment was received from Tessenderlo Kerley, Inc. requesting that EPA Reg. numbers 61842-20, 61842-21, 61842-22, 61842-23, 61842-24 and 61842-32 be retained because the entry to cancel the product registrations were listed in error. The fourth comment was received from Makhteshim Agan of North America, Inc. requesting that EPA Reg. No. 66222-32 be retained because the product registration name and active ingredient were listed incorrectly.

IV. Cancellation Order

Pursuant to FIFRA section 6(f) (7 U.S.C. 136d(f)(1)), EPA hereby approves the requested cancellations and amendments to terminate uses of the registrations identified in Tables 1 and 2 of Unit II. Accordingly, the Agency hereby orders that the product registrations identified in Tables 1 and 2 of Unit II, are canceled and amended to terminate the affected uses. The effective date of the cancellations that are subject of this notice is March 23, 2017. Any distribution, sale, or use of existing stocks of the products identified in Tables 1 and 2 of Unit II, in a manner inconsistent with any of the provisions for disposition of existing stocks set forth in Unit VI. will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of November 18, 2016 (81 FR 81761) (FRL-9953-55). The comment period closed on December 19, 2016.

VI. Provisions for Disposition of Existing Stocks

Existing stocks are those stocks of registered pesticide products which are currently in the United States and which were packaged, labeled, and released for shipment prior to the effective date of the action. The existing stocks provision for the products subject to this order is as follows.

For voluntary cancellations, the registrants may continue to sell and distribute existing stocks of products listed in Table 1 until March 23, 2018, which is 1 year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute products listed in Table 2 of Unit II, under the previously approved labeling until September 24, 2018, a period of 18 months after publication of the cancellation order in this Federal Register, unless other restrictions have been imposed. Thereafter, registrants will be prohibited from selling or distributing the products whose labels include the terminated uses identified in Table 2 of Unit II, except for export consistent with FIFRA section 17 or for proper disposal.

Authority: 7 U.S.C. 136 et seq.

Dated: January 24, 2017.
Delores Barber,
Director, Information Technology and Resources Management Division, Office of Pesticide Programs.

[FR Doc. 2017-05700 Filed 3-22-17; 8:45 am]

BILLING CODE 6560-50-P